SECURITIES AND EXCHANGE COMMISSION

[Release No. 34-53276; File No. SR-NASD-2005-098]

Self-Regulatory Organizations; National Association of Securities Dealers, Inc.; Notice of Filing of Proposed Rule Change and Amendment No. 1 Thereto Relating to the Submission of SEC Rule 15c2-11 Information on Non-Nasdaq Securities

Correction

In notice document E6-2368 beginning on page 8875 in the issue of Tuesday, February 21, 2006, make the following correction:

On page 8877, in the third column, in the second and third lines from the top, “March 10, 2006” should read “March 14, 2006”.

[FR Doc. Z6-2368 Filed 2-24-06; 8:45 am]

BILLING CODE 1505-01-D